DEPARTMENT OF COMMERCE

Foreign-Trade Zones Board

[B-3-2023]

Foreign-Trade Zone 29—Louisville, Kentucky; Application for Reorganization (Expansion of Service Area); Under Alternative Site Framework

An application has been submitted to the Foreign-Trade Zones (FTZ) Board by the Louisville & Jefferson County Riverport Authority, grantee of Foreign-Trade Zone 29, requesting authority to reorganize the zone to expand its service area under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on January 9, 2023.

FTZ 29 was approved by the FTZ Board on May 26, 1977 (Board Order 118, 42 FR 29323, June 8, 1977) and reorganized under the ASF on October 25, 2018 (Board Order 2070, 83 FR 54709-54710, October 31, 2018). The zone currently has a service area that includes Anderson, Breckinridge, Bullitt, Butler, Carroll, Crittenden, Daviess, Franklin, Hancock, Henderson, Henry, Hopkins, Jefferson, McLean, Meade, Muhlenberg, Nelson, Ohio, Oldham, Shelby, Spencer, Trimble, Union, Webster, and Woodford Counties, Kentucky.

The applicant is now requesting authority to expand the service area of the zone to include Christian, Todd, Logan, Simpson, Warren, Allen, and Barren Counties, Kentucky, as described in the application. If approved, the grantee would be able to serve sites throughout the expanded service area based on companies' needs for FTZ designation. The application indicates that the proposed expanded service area is adjacent to the Nashville, Tennessee Customs and Border Protection Port of Entry.

The applicant is also requesting approval of the following ASF subzones: Proposed Subzone 29T (2.139 acres)—Southern Kentucky Warehousing & Fulfillment, LLC, 16200 Bowling Green Road, Rockfield, Logan County; and, Subzone 29U (510.8 acres)—Envision AESC Bowling Green LLC, 1397 Production Ave., Bowling Green, Warren County.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is March 14, 2023. Rebuttal comments in response to material submitted during the foregoing period may be submitted during the subsequent 15-day period to March 29, 2023.

A copy of the application will be available for public inspection in the “Online FTZ Information Section” section of the FTZ Board's website, which is accessible via www.trade.gov/ftz. For further information, contact Elizabeth Whiteman at Elizabeth.Whiteman@trade.gov.

Dated: January 10, 2023.
Elizabeth Whiteman,
Acting Executive Secretary.

[FR Doc. 2023-00576 Filed 1-12-23; 8:45 am]

BILLING CODE 3510-DS-P